CORPORATION FOR NATIONAL AND COMMUNITY SERVICE

Renewal of Two Currently Approved Information Collections

ACTION: Notice.

SUMMARY: The Corporation for National and Community Service (hereinafter “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed revision of two forms:

• Corporation for National Service Enrollment Form (OMB #3045-0006), and

• Corporation for National Service End of Term/Exit Form (OMB #3045-0015).

Copies of the forms can be obtained by contacting the office listed below in the ADDRESSES section of this notice.

DATES: Written comments must be submitted to the office listed in the ADDRESSES section by June 6, 2000.

ADDRESSES: Send comments to the Corporation for National and Community Service, National Service Trust, Attn: Ms. Natalie Burch, 8th Floor, 1201 New York Avenue, N.W., Washington, D.C., 20525.

FOR FURTHER INFORMATION CONTACT: Natalie Burch, (202) 606-5000, ext. 159.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

I. Background

The Corporation for National and Community Service supports programs that provide opportunities for individuals who want to become involved in national service. The service opportunities cover a wide range of activities over varying periods of time. Upon successfully completing an agreed-upon term of service in an AmeriCorps program, an AmeriCorps participant receives an “education award”. This education award can be used to make a payment towards a qualified student loan or pay for educational expenses at qualified post-secondary institutions and approved school-to-work opportunities programs. This award is an amount of money set aside in the AmeriCorps member's name in the National Service Trust Fund. Members have seven years in which to draw against any unused balance.

The National Service Trust is the office within the Corporation that administers the education award program. This involves:

• Tracking the service for all AmeriCorps members;

• Ensuring that the requirements of the Corporation's enabling legislation are met, vis-a-vis the education award;

• Processing school and loan payments that the members authorize; and

• Processing payments for the interest that accrues on certain qualified student loans during the member's service period.

II. Current Action

The Corporation has been using several versions of the two forms contained in this Notice since the AmeriCorps program began in 1994. The Corporation proposes to ask the Office of Management and Budget (OMB) for permission to renew each form in basically the same format as the forms currently in use. The current forms are due to expire on June 30, 2000.

The Corporation's Enrollment Form serves two purposes essential to the functioning of the AmeriCorps program. It is the means by which programs certify that an individual is eligible to serve in an AmeriCorps program and the date service has begun. Second, it provides the Corporation, Grantees, program managers, and Congress with demographic data on AmeriCorps members.

The Enrollment Form is the beginning-of-service counterpart to the Corporation's End of Term/Exit Form, which concludes the tracking of members at the end of their term of service.

Submission of the End of Term/Exit form provides legal certification for the disbursement of an education award to an AmeriCorps member. It is the document by which an authorized program official at an AmeriCorps program site indicates whether an AmeriCorps member is eligible for an education award.

Several versions of both forms have been used since the AmeriCorps program began in 1994.

In 1999, the Corporation began using an electronic system to both enroll and exit AmeriCorps members. Many local projects can enter into a database information about their members' enrollment and completion of service. This data is transferred to the Trust periodically where it becomes the official record.

Currently, more than half of the nation's AmeriCorps programs use this system. The Corporation would like to have all programs use it, since it ultimately speeds up both collecting information and issuing education awards to members who have successfully completed their terms of service. However, many AmeriCorps programs, especially smaller ones, do not have the technological resources to afford the computer hardware and software.

The Corporation does not want to exclude any competent, otherwise qualified organizations from participating as a sponsor, so it is possible that there may always be a small number of organizations that will use forms. A separate discussion of each form follows.

A. Enrollment Form—(OMB #3045-0006)

Currently, AmeriCorps members use a form entitled Corporation for National Service Enrollment Form to enroll national service participants in the AmeriCorps program. The form requests program-related as well as demographic information. The program information includes the participant's start date, the code number of the program, the expected completion date, and whether the term of service is full or part time. This is the Corporation's sole source of data for individual members. The demographic information includes background information on the AmeriCorps member (including gender, marital status, education level, and reasons for joining).

The program information is used to:

• Make liability projections for the Trust Fund;

• Verify national service participation when requested by a lender who holds an AmeriCorps member's student loan (members are eligible to have the repayment of certain student loans postponed if they are participating in national service),

• Plan and monitor programs (review recruiting efforts, identify programs with excessive early termination rates, establish and reconcile program's budgets)

The demographic information is used for recruiting purposes and to provide the Corporation, program managers, and the Congress with demographic data on AmeriCorps members.

In requesting permission for renewal of this form, the Corporation does not propose making any changes to the version currently in use.

Type of Review: Renewal.

Agency: Corporation for National and Community Service.

Title: Corporation for National Service Enrollment Form.

OMB Number: 3045-0006.

Agency Number: None.

Affected Public: Individuals about to participate in an AmeriCorps program.

Total Respondents: 5,000 annually.

Frequency: Once per service period (average of once per year).

Average Time Per Response: Total of 7 minutes (4 minutes for the AmeriCorps members; and 3 minutes for the program staff).

Estimated Total Burden Hours: 584 hours.

Total Burden Cost (capital/startup): None.

Total Burden Cost (operating/maintenance): None.

B. End of Term/Exit Form—(3045-0015)

The Corporation's End of Term/Exit form is the means by which AmeriCorps programs certify that a member has, or has not, successfully satisfied conditions which must be met in order to receive an education award. When an AmeriCorps member successfully completes a term of national service, a designated program official certifies that the service was completed and the individual is eligible for an education award. The End of Term/Exit form is the document upon which this certification is recorded. Additional information requested on the form includes the member's service completion date, the current address where the education award documentation should be mailed, and two questions regarding the member's desire for post service information.

The Corporation proposes to eliminate the ten evaluation questions that are on the form currently being used. The Corporation's Evaluation Division has decided that relevant evaluation data will be collected through surveys.

Type of Review: Renewal.

Agency: Corporation for National and Community Service.

Title: Corporation for National Service End of Term/Exit Form.

OMB Number: None.

Agency Number: None.

Affected Public: AmeriCorps members who have ended their term of national service.

Total Respondents: 5,000 annually.

Frequency: Once per term of service (average of once per year).

Average Time Per Response: 7 minutes, total (4 minutes for the AmeriCorps members to complete the form and, 3 minutes for the program staff)

Estimated Total Burden Hours: 584 hours.

Total Burden Cost (capital/startup): None.

Total Burden Cost (operating/maintenance): None.

Comments submitted in response to this notice will be summarized and/or included in the request for Office of Management and Budget approval of the information collection request; they will also become a matter of public record.

Dated: April 3, 2000.
Thomas L. Bryant,
Acting General Counsel.

[FR Doc. 00-8595 Filed 4-6-00; 8:45 am]

BILLING CODE 6050-28-U